Title 3—

The President

Proclamation 10766 of May 31, 2024

Black Music Month, 2024

By the President of the United States of America

A Proclamation

During Black Music Month, we celebrate the Black artists and creatives whose work has so often been a tidal wave of change—not only by defining the American songbook and culture but also by capturing our greatest hopes for the future and pushing us to march forward together.

Our Nation has only recognized Black Music Month for 45 years, but its legacy stretches back to our country's earliest days. Black music began when enslaved people, who were cruelly prohibited from communicating in their native languages, found ways to express themselves through music. Set to the sound of African rhythms, they captured the inhumanity, tragedy, and toll that America's original sin took on their lives while also telling the stories of their hopes and dreams, faith and spirituality, and love and purpose. Ever since, Black performers have carried on that tradition of using art to break down barriers, create sacred spaces for expression, and give voice to the promise of America for all Americans. They have created and shaped some of our most beloved genres of music—like folk, blues, jazz, hip-hop, country, rock and roll, gospel, spirituals, and R&B. Black music has set the beat of the Civil Rights Movement; expressed the inherent dignity and captured the pride and power of Black communities; and held a mirror to the good, the bad, and the truth of our Nation.

Black music is a staple of American art and a powerhouse of our culture—that is why we must continue to open doors for the next generation of Black artists. Since I came into office, I have had the honor of bestowing some of our Nation's highest awards to some of our most important Black performers and producers like Gladys Knight, Berry Gordy, Tania León, Queen Latifah, Dionne Warwick, and more—uplifting their talent and inspiring others to follow their example. After making Juneteenth a National Holiday, I also hosted the first Juneteenth concert on the South Lawn—where the voices of Jennifer Hudson, Audra McDonald, Ledisi, and other incredible performers reminded us all of the beauty of Black music and Black culture that is American music and American culture. Last year, Vice President Kamala Harris hosted the first-ever hip-hop house party at the Vice President's Residence. At the same time, I have helped secure over $100 million to keep concert halls, theaters, and other venues afloat during the pandemic. In my Budget, I ask for a total of over $400 million for the National Endowment for the Arts and the National Endowment for the Humanities—that includes funding for arts programs in underserved communities.

Black music embodies the best of American art—inspiring us, challenging us, and bringing us together. This month, may we show gratitude to all the Black artists, whose work speaks to the soul of who we are, shows us the way forward together, and reminds us to lift every voice.

NOW, THEREFORE, I, JOSEPH R. BIDEN JR., President of the United States of America, by virtue of the authority vested in me by the Constitution and the laws of the United States, do hereby proclaim June 2024 as Black Music Month. I call upon public officials, educators, and all the people of the United States to observe this month by honoring Black musicians and raising awareness and appreciation of Black music.

IN WITNESS WHEREOF, I have hereunto set my hand this thirty-first day of May, in the year of our Lord two thousand twenty-four, and of the Independence of the United States of America the two hundred and forty-eighth.

[FR Doc. 2024-12477

Filed 6-4-24; 11:15 am]

Billing code 3395-F4-P